CONSUMER PRODUCT SAFETY COMMISSION

Notification of Request for Extension of Approval of Information Collection Requirements—Safety Standard for Bicycle Helmets

AGENCY: Consumer Product Safety Commission.

ACTION: Notice.

SUMMARY: In the Federal Register of June 9, 2004 (69 FR 32329), the Consumer Product Safety Commission published a notice in accordance with provisions of the Paperwork Reduction Act of 1995 (44 U.S.C. Chapter 35) to announce the agency's intention to seek an extension of approval of the collection of information in the safety standard for bicycle helmets (16 CFR part 1203). These regulations establish testing and recordkeeping requirements for manufacturers and importers of bicycle helmets subject to the standard. No comments were received in response to the notice. The Commission now announces that it has submitted to the Office of Management and Budget a request for extension of approval of that collection of information without change for a period of three years from the date of approval.

SUPPLEMENTARY INFORMATION: In 1994, Congress passed the “Child Safety Protection Act,” which, among other things, included the “Children's Bicycle Helmet Safety Act of 1994” (Pub. L. 103-267, 108 Stat. 726). This law directed the Commission to issue a final standard applicable to bicycle helmets that would replace several existing voluntary standards with a single uniform standard that would include provisions to protect against the risk of helmets coming off the heads of bicycle riders, address the risk of injury to children, and cover other issues as appropriate. The Commission issued the final bicycle helmet standard in 1998. It is codified at 16 CFR part 1203.

The standard requires all bicycle helmets manufactured after March 10, 1999, to meet impact-attenuation and other requirements. The standard also contains testing and recordkeeping requirements to ensure that bicycle helmets meet the standard's requirements. Certification regulations implementing the standard require manufacturers, importers, and private labelers of bicycle helmets subject to the standard to (1) perform tests to demonstrate that those products meet the requirements of the standard, (2) maintain records of those tests, and (3) affix permanent labels to the helmets stating that the helmet complies with the applicable standard. The certification regulations are codified at 16 CFR part 1203, Subpart B.

The Commission uses the information compiled and maintained by manufacturers, importers, and private labelers of bicycle helmets subject to the standard to help protect the public from risks of injury or death due to head injury associated with bicycle riding. More specifically, this information helps the Commission determine whether bicycle helmets subject to the standard comply with all applicable requirements. The Commission also uses this information to obtain corrective actions if bicycle helmets fail to comply with the standard in a manner that creates a substantial risk of injury to the public.

Additional Information About the Request for Extension_of Approval of Information Collection Requirements Agency address: Consumer Product Safety Commission, Washington, DC 20207.

Title of information collection: Safety Standard for Bicycle Helmets (16 CFR part 1203).

Type of request: Extension of approval.

General description of respondents: Manufacturers, importers, and private labelers of bicycle helmets.

Estimated number of respondents: 30.

Estimated average number of hours per respondent: 670-1,000 hours per year.

Estimated cost of collection for all respondents: $489,600-$734,400/year.

Comments: Comments on this request for extension of approval of information collection requirements should be submitted by September 24, 2004 to (1) the Office of Information and Regulatory Affairs, Attn: OMB Desk Officer for CPSC, Office of Management and Budget, Washington DC 20503; telephone: (202) 395-7340, and (2) the Office of the Secretary, Consumer Product Safety Commission, Washington, DC 20207. Written comments may also be sent to the Office of the Secretary by facsimile at (301) 504-0127 or by e-mail at cpsc-os@cpsc.gov.

Copies of this request for extension of the information collection requirements and supporting documentation are available from Linda Glatz, management and program analyst, Office of Planning and Evaluation, Consumer Product Safety Commission, Washington, DC 20207; telephone: (301) 504-7671, or by e-mail to lglatz@cpsc.gov.

Dated: August 19, 2004.
Todd A. Stevenson,
Secretary, Consumer Product Safety Commission.

[FR Doc. 04-19396 Filed 8-24-04; 8:45 am]

BILLING CODE 6355-01-P